DEPARTMENT OF HOMELAND SECURITY

Federal Emergency Management Agency

Pre-Disaster Mitigation Program

AGENCY: Federal Emergency Management Agency, Emergency Preparedness and Response Directorate, Department of Homeland Security.

ACTION: Notice of availability of Pre-Disaster Mitigation competitive grants.

SUMMARY: The Federal Emergency Management Agency (FEMA) gives notice of the availability of Pre-Disaster Mitigation (PDM) competitive grants for fiscal year (FY) 2003. FEMA will provide PDM funds to assist States and communities to implement a sustained pre-disaster natural hazard mitigation program to reduce overall risk to the population and structures, while also reducing reliance on funding from actual disaster declarations. For FY 2003, these funds will be awarded on a competitive basis with a National priority on funding mitigation projects that address National Flood Insurance Program (NFIP) repetitive flood loss properties.

DATES: States and Federally recognized Indian Tribal governments complete grant applications must be received electronically or on paper by the appropriate FEMA Regional Office on or before midnight, Eastern Time, October 6, 2003. If the non-federal cost share requirement cannot be met by the application deadline due to pending State and/or local legislative approval or fiscal year timelines, the Applicant still must submit the application by October 6, 2003, including a notation in the Budget Narrative and a letter to the FEMA Regional Director providing an explanation and stating that the cost share will be available by November 4, 2003. The Applicant must follow-up with a written certification to the FEMA Regional Director by November 4, 2003 to verify that non-federal cost share funding is approved and available for immediate use if the application is selected by FEMA.

ADDRESSES: FEMA Regional Offices:

FEMA Region I—Serving Maine, New Hampshire, Vermont, Rhode Island, Connecticut, and Massachusetts: J.W. McCormack POCH Building, Boston, MA 02109.

FEMA Region II—Serving New York, New Jersey, Puerto Rico, and the U.S. Virgin Islands: 26 Federal Plaza, Rm. 1307, New York, NY 10278-0001.

FEMA Region III—Serving the District of Columbia, Delaware, Maryland, Pennsylvania, Virginia, and West Virginia: 1 Independence Mall, 6th Floor, 615 Chestnut Street, Philadelphia, PA 19106-4404.

FEMA Region IV—Serving Alabama, Florida, Georgia, Kentucky, Mississippi, North Carolina, South Carolina, and Tennessee: 3003 Chamblee Tucker Road, Atlanta, GA 30341.

FEMA Region V—Serving Illinois, Indiana, Michigan, Minnesota, Ohio, and Wisconsin: 536 S. Clark Street, 6th Floor, Chicago, IL 60605.

FEMA Region VI—Serving Arkansas, Louisiana, New Mexico, Oklahoma, and Texas: FRC 800 North Loop 288, Denton, TX 76209-3698.

FEMA Region VII—Serving Iowa, Kansas, Missouri, and Nebraska: 2323 Grand Avenue, Suite 900, Kansas City, MO 64108-2670.

FEMA Region VIII—Serving Colorado, Montana, North Dakota, South Dakota, Utah, and Wyoming: Denver Federal Center, Building 710, Box 25267, Denver, CO 80225-0267.

FEMA Region IX—Serving Arizona, California, Hawaii, Nevada, the Territory of American Samoa, the Territory of Guam, and the Commonwealth of the Northern Mariana Islands: 1111 Broadway, Suite 1200, Oakland, CA 94607-4052.

FEMA Region X—Serving Alaska, Idaho, Oregon, and Washington: Federal Regional Center, 130 228th Street, SW., Bothell, WA 98021-979.

FOR FURTHER INFORMATION CONTACT: Karen Magnino, Program Planning Branch, Mitigation Division, FEMA, 500 C Street, SW., Room 444, Washington, DC 20472, (202) 646-3807 or e-mail: Karen.Magnino@dhs.gov.

SUPPLEMENTARY INFORMATION:

Appropriations

$150 million was made available for the PDM grant program under Consolidated Appropriations Resolution, 2003, Public Law (Pub. L.) 108-7. In general, grants are to be awarded on a competitive basis and without reference to State allocations, quotas, or other formula-based allocation of funds. Funds should be used primarily to fund mitigation activities that address natural hazards, but multi-hazard projects and plans may also address hazards caused by non-natural forces.

From the $150 million FY 2003 appropriation for the PDM program, $975,000 was rescinded by a general provision in the law that directs every program, project, and activity be reduced by 0.65 percent. FEMA made available $250,000 ($248,375 after rescission) to each of the fifty States, the District of Columbia, Puerto Rico, the Virgin Islands, Guam, and American Samoa for state and local hazard mitigation planning. A Notice of Funds Availability for the PDM planning grants was published on March 3, 2003. $3.6 million of PDM funds will be available as Disaster Resistant University (DRU) grants, through separate notice, to State, local and Tribal governments for pre-disaster mitigation activities that benefit universities. Approximately $131.5 million is available for PDM competitive grants, technical assistance and program support.

Authorities

The PDM program was authorized by section 203 of the Robert T. Stafford Disaster Relief and Emergency Assistance Act (Stafford Act), 42 U.S.C. 5133, as amended by section 102 of the Disaster Mitigation Act of 2000 (DMA), Pub. L. 106-390, 114 Stat. 1552, to assist States and communities to implement a sustained pre-disaster natural hazard mitigation program to reduce overall risk to the population and structures, while also reducing reliance on funding from actual disaster declarations. The PDM program provides a significant opportunity to raise risk awareness and to reduce the Nation's disaster losses through pre-disaster mitigation planning, and the implementation of planned, pre-identified, cost effective mitigation measures that are designed to reduce injuries, loss of life, and damage and destruction of property from all hazards, including damage to critical facilities.

44 CFR Part 201, Hazard Mitigation Planning, establishes criteria for State and local hazard mitigation planning, pursuant to section 322 of the Stafford Act, as amended by section 104 of the DMA. After November 1, 2003, FEMA-approved local mitigation plans will be required as a condition of receiving PDM grants for local mitigation project grants. FEMA-approved local mitigation plans are not required for project grants awarded with FY 2003 PDM funds. FEMA is in the process of clarifying language to reflect that local mitigation plans are not required for project grants awarded with FY 2003 PDM funds competed as of the date of this Notice. After November 1, 2004, a FEMA-approved Standard State mitigation plan will also be required as a condition of receiving PDM project grants for State and local mitigation activities. The Standard State Mitigation Plan also will be required for non-emergency assistance provided under the Stafford Act, including Public Assistance funds for restoration of damaged facilities and Hazard Mitigation Grant Program funding. Therefore, the development of State and local multi-hazard mitigation plans is key to maintaining eligibility for future FEMA funding.

Applicant Eligibility

Only the state emergency management agencies or a similar office (i.e., the office that has emergency management responsibility) of the State, the District of Columbia, the U.S. Virgin Islands, the Commonwealth of Puerto Rico, Guam, American Samoa, and the Commonwealth of the Northern Mariana Islands, as well as Federally recognized Indian Tribal governments are eligible to apply to FEMA for assistance as Applicants under this program.

In keeping with the intent of FEMA's overall policy, “Government-to-Government Relations with American Indian and Alaska Native Tribal Governments,” published at 64 FR 2095, January 12, 1999, Federally recognized Indian Tribal governments may choose to apply for PDM grants either through the State as a Sub-applicant or directly to FEMA as an Applicant. (This choice is independent of a designation under other FEMA grants and programs.) Some State regulations prohibit the State from acting as an Applicant for an Indian Tribe. In such cases, or if the Tribe chooses, the Tribal government may act as its own Applicant. However, when legally permitted, Indian Tribal governments are encouraged to continue existing relationships with the State as the Applicant.

Sub-applicant Eligibility

Other state agencies, Federally recognized Indian Tribal governments, and local governments, to include state recognized Indian Tribes, authorized tribal organizations, and Alaska Native villages are eligible to apply to the Applicant as Sub-applicants. Private non-profit organizations are not eligible to apply as Sub-applicants; however, they may request a local government to submit an application for their proposed activity on their behalf.

All Applicants and Sub-applicants must be participating in the NFIP if they have been identified through the NFIP as having a Special Flood Hazard Area (SFHA) (a Flood Hazard Boundary Map (FHBM) or Flood Insurance Rate Map (FIRM) has been issued). In addition, the community must not be on probation, suspended or withdrawn from the NFIP.

Grant Application Process

Potential Sub-applicants should consult the official designated point of contact in their State/Tribe for more information pertaining to their application process.

FEMA's electronic grants (e-Grants) system should be used by Applicants and Sub-applicants whenever possible. FEMA has developed the e-Grants system to meet the intent of the eGovernment initiative, authorized by Pub. L. 106-107, passed on November 20, 1999. This initiative requires that all government agencies both streamline grant application processes and provide for the means to electronically create, review, and submit a grant application via the Internet. Use of the e-Grants system will greatly assist FEMA in rapidly reviewing and evaluating the applications for the PDM program. FEMA's e-Grants system incorporates all of the elements noted below for the PDM application in a user-friendly format for both Applicant and Sub-applicant use. The electronic process may substitute for the paper-based process in that Sub-applicants' applications are electronically transmitted to the Applicant for review and action. It will be the Applicant's responsibility to determine which sub-applications will be included in their final application to FEMA. The Applicant also must prioritize the sub-applications included in its application to FEMA. FEMA will use the information transmitted through the e-Grants system to evaluate applications and make award decisions, monitor ongoing performance and manage the flow of federal funds, and to closeout the grant award when all work is completed.

If an Applicant does not use the e-Grants system, the Applicant may submit a paper application, which can be obtained from the FEMA Regional Office. The grant application should include:

• Application for Federal Assistance, Standard Form 424;

• Budget Information—Construction Program, FEMA Form 20-15; or

• Budget Information—Non-Construction Program, FEMA Form 20-20;

• Budget Narrative explaining cost items that have been budgeted;

• Summary Sheet for Assurances and Certification, FEMA Form 20-16;

• Assurances—Non-Construction Program, FEMA Form 20-16A; or,

• Assurances—Construction Program, FEMA Form 20-16B;

• Certification Regarding Lobbying; Debarment, Suspension and Other Responsible Matters; and Drug-Free Workplace Requirements, FEMA Form 20-16C;

• Disclosure of Lobbying Activities, Standard Form LLL;

• Approved Indirect Cost Agreement, if applicable;

• Documentation to support Sub-applicant status as a small, impoverished community, if appropriate, for Federal cost share of up to 90 percent;

• Documentation for the hazard risk assessment determination. This is only required as part of mitigation planning sub-applications;

• Complete Benefit-Cost Analysis documentation for mitigation projects;

• The Applicant should include a Program Narrative for all the sub-applications for which PDM funding is requested. The Applicant must rank each sub-application included in the Program Narrative in order of their priority based on the Applicant's mitigation plan. Only one sub-application should be ranked number 1, 2, 3, etc. The Program Narrative should include:

(1) Individual activity location and name of Sub-Applicant;

(2) Timeline/schedule for each activity;

(3) Individual activity costs, including Federal and non-Federal shares;

(4) Activity-specific scopes of work, including a list of properties, if applicable;

(5) Certification that the Applicant has evaluated the included activities, that they meet all PDM program eligibility criteria, and that they will be implemented in accordance with 44 CFR Part 13, Uniform Administrative Requirements for Grants and Cooperative Agreements to State and Local Governments;

(6) Responses to the Supplemental Questions for each Sub-applicant activity for competitive ranking and evaluation (Supplemental Questions are available for Applicants and Sub-applicants on the FEMA Web site: http://www.fema.gov/fima/pdm.shtm);

(7) Recommendations and documentation regarding the environmental review required by 44 CFR Part 10, Environmental Considerations, and other applicable laws and executive orders, including responses to Established Questions for mitigation projects and complete environmental/historic documentation (the environmental/historic Established Questions are available for Applicants and Sub-applicants on the FEMA Web site: http://www.fema.gov/fima/pdm.shtm); and

(8) Assurance that the Sub-application is complete and addresses all program requirements including the Supplemental Questions, thereby meeting the program criteria outlined under section 203(g) of the Stafford Act.

National Priority for FY 2003

For FY 2003, FEMA has established a National priority on funding mitigation projects that address NFIP repetitive flood loss properties. By focusing on the mitigation of NFIP repetitive flood loss properties through acquisition, relocation, elevation, floodproofing, and minor structural projects that save lives and protect property, there will be significant reductions to the NFIP claims payments; improvement to the soundness of the National Flood Insurance Fund; and reduction to disaster housing payments, emergency response expenses, and disaster assistance to fund the repair of the infrastructure. In addition, fewer families will lose wages and fewer businesses will suffer reduced profits as a result of flooding. Also, in the case of property acquisition, there will be increased recreational opportunities and an enhancement of the environment through the creation of open space along rivers and streams. Most importantly, communities and their residents will be safer from flood hazards.

Eligible Activities and Associated Costs

Mitigation Planning. Applicants may request mitigation planning funds to provide mitigation planning assistance to Sub-applicants, including delivery of mitigation planning workshops and assistance in the development of mitigation plans. Applicants and Sub-applicants may request mitigation planning funds to develop State, Tribal, and local multi-hazard mitigation plans that meet the planning criteria outlined in 44 CFR part 201 pursuant to section 322 of the Stafford Act, 42 U.S.C. 5133, including the development of risk assessments for mitigation plans. Proposals may be submitted for countywide or multi-jurisdictional plans since many mitigation issues are better resolved by evaluating hazards in a more comprehensive fashion, however, multi-jurisdictional plans must be adopted by all jurisdictions covered by the plan. Multi-hazard mitigation planning must primarily focus on natural hazards but may also address hazards caused by non-natural forces.

Because FEMA's National priority for FY 2003 is to fund proposals that address NFIP repetitive flood loss properties, communities with NFIP repetitive flood loss properties are urged to address those properties in their risk assessment and planning process.

As part of the competitive grant program, up to 10 percent of the funds requested in the mitigation planning sub-application may be used for information dissemination activities regarding cost-effective mitigation technologies. These activities may include marketing and outreach (brochures and videos, etc.), related to the proposed mitigation planning activity.

Mitigation Projects. Multi-hazard mitigation projects must primarily focus on natural hazards but may also address hazards caused by non-natural forces. Funding is restricted to a maximum of $3 million of Federal funds per project. The following are eligible types of mitigation projects:

• Property acquisition or relocation of hazard prone property for conversion to open space in perpetuity;

• Structural and non-structural retrofitting (including designs and feasibility studies when included as part of the construction project) for wildfire, seismic, wind or flood hazards (e.g., elevation, storm shutters, hurricane clips);

• Minor structural hazard control or protection projects that may include vegetation management, and stormwater management (e.g., culverts, floodgates, retention basins); and,

• Localized flood control projects, such as certain ring levees and floodwall systems, that are designed specifically to protect critical facilities and that do not constitute a section of a larger flood control system.

Mitigation projects must also meet the following general criteria:

(1) Be cost-effective and substantially reduce the risk of future damage, hardship, loss, or suffering resulting from a major disaster, consistent with 44 CFR 206.434(c)(5) and related guidance, and have a Benefit Cost Analysis that results in a benefit cost ratio of at least 1.0. Mitigation projects without a Benefit Cost Analysis or with a benefit cost ratio less than 1.0 will not be considered for the PDM competitive grant program. Mitigation projects with higher benefit cost ratios will be more competitive. Applicants may use programs or mechanisms other than the FEMA benefit-cost model to conduct the Benefit Cost Analysis; however the methodology used must be consistent with the FEMA benefit-cost model and approved in advance by FEMA. To facilitate the review and approval of eligible mitigation activities, FEMA has developed an alternative approach to determine cost effectiveness for mitigating certain NFIP repetitive loss properties (information on the alternative approach to determine cost effectiveness is available for Applicants and Sub-applicants on the FEMA Web site: http://www.fema.gov/fima/pdm.shtm);

(2) Be in conformance with the current FEMA-approved State hazard mitigation plan;

(3) Solve a problem independently or constitute a functional portion of a solution where there is assurance that the project as a whole will be completed, consistent with 44 CFR 206.434(c)(4);

(4) Be in conformance with 44 CFR Part 9, Floodplain Management and Protection of Wetlands, 44 CFR Part 10, Environmental Considerations;

(5) Not duplicate the assistance that another Federal agency or program has the primary authority to provide, consistent with 44 CFR 206.434(g);

(6) Be located in a community that (a) does not have a SFHA, or (b) is participating in the NFIP if the community has an identified SFHA (a FHBM or FIRM has been issued). The community must not be on probation, suspended or withdrawn from the NFIP; and,

(7) Meet the requirements of Federal, State, and local laws.

As part of the competitive grant, up to 10 percent of the funds requested in the project sub-application may be used for information dissemination activities regarding cost-effective mitigation technologies. These activities may include marketing and outreach (brochures and videos, etc.), related to the proposed mitigation project.

Applicant Management Costs. Applicants may request up to 10 percent of the total planning and project grant funding requested for management costs to support the solicitation, review and processing of PDM sub-applications and awards, and to provide technical assistance to Sub-applicants, including assisting Sub-applicants with Benefit Cost Analysis and environmental and historic documentation. Care must be taken not to provide more technical assistance to one Sub-applicant than another to avoid the appearance of pre-selection. If requested, indirect costs must be included as part of management costs and must be supported with a current Indirect Cost Rate approved by a Federal Cognizant Agency. However, in no case will the amount of funding awarded for management costs exceed 10 percent of the total amount awarded for mitigation planning and project sub-grants. There is no waiver to increase Applicant Management Costs.

Applicants that request management costs must submit a separate sub-application for their management costs. Management costs will not factor into the competitive evaluation of planning or project proposals submitted by the Applicant and do not need a Benefit Cost Analysis. Funding for Applicant management costs will not be awarded until all planning and project sub-applications have been awarded to ensure that Applicant management costs do not exceed 10 percent of the total planning and project sub-grant awards. Management costs will be cost shared with up to 75 percent of eligible costs provided by FEMA and at least 25 percent provided by a non-Federal source to the maximum Federal share approved by FEMA.

Sub-applicant Management Costs. Sub-applicants may request a maximum of 5 percent of the total grant funding requested for management costs to support approved planning activities or projects. Sub-applicant management costs must be included as part of the planning activity or project costs and, therefore, must be included in the Benefit Cost Analysis for projects. If requested, indirect costs must be included as part of the Management Costs and must be supported with a current Indirect Cost Rate approved by a Federal Cognizant Agency. However, in no case will the total Federal share for any project, including management costs, exceed $3 million. There is no waiver to increase Sub-applicant Management Costs.

Ineligible Activities

Ineligible Mitigation Projects. The following mitigation projects are ineligible for the PDM program:

• Major flood control projects such as dikes, levees, floodwalls, seawalls, groins, jetties, dams, waterway channelization; beach nourishment or renourishment;

• Warning systems;

• Engineering designs that are not integral to a proposed project;

• Feasibility studies that are not integral to a proposed project;

• Drainage studies that are not integral to a proposed project;

• Generators that are not integral to a proposed project;

• Phased or partial projects;

• Flood studies or mapping; and,

• Response and communication equipment.

Cost Overruns. The PDM program is a competitive grant program and, therefore, award amounts are final. There are no cost overruns associated with this program.

Cost Share Requirement

FEMA will contribute up to 75 percent of the total amount approved under the grant award, to implement approved activities. At least 25 percent of the total approved under the grant award must be provided from a non-Federal source. Grants awarded to small, impoverished communities may receive a Federal share of up to 90 percent of the total amount approved under the grant award, to implement eligible approved activities. A small, impoverished community must meet all of the following criteria:

• It must be a community of 3,000 or fewer individuals that is identified by the State as a rural community, and is not a remote area within the corporate boundaries of a larger city;

• It must be economically disadvantaged, with residents having an average per capita annual income not exceeding 80 percent of national per capita income, based on best available data;

• It must have a local unemployment rate that exceeds by one percentage point or more, the most recently reported, average yearly national unemployment rate; and

• It must meet any other factors as determined by the State in which the community is located.

All non-Federal contributions, cash and in-kind, are accepted as part of the non-Federal share. Except as allowed by Federal statute, no other Federal funds can be used as a cost share. Requirements for in-kind contributions can be found in 44 CFR 13.24. In-kind contributions must be directly related to eligible program costs. The following documentation is required for third-party cash and in-kind contributions: record of source of donor, dates, rates, amounts, and deposit slips for cash contributions.

Evaluation and Award Processes

National Ranking. FEMA will score all eligible activities on the basis of predetermined, objective, quantitative factors to calculate a National Ranking Score. Mitigation planning activities will be scored separately from mitigation projects.

• Ranking factors for competitive mitigation planning activities, listed in order of importance, are:

(1) Sub-applicant's assessment of risks by hazard;

(2) The priority given to the sub-application by the Applicant;

(3) Community mitigation factors such as Community Rating System class, Cooperating Technical Partner, participation as a Firewise Community, and adoption of codes to include Building Code Effectiveness Grading Schedule, International Code Series and National Fire Protection Association 5000 Code;

(4) Status of FEMA-approved local, Standard State/Tribal and Enhanced State/Tribal mitigation plans; and,

(5) Status of the Sub-applicant as a small, impoverished community.

• Ranking factors for mitigation projects, listed in order of importance with the same importance given to numbers 5, 6, and 7, are:

(1) Benefit Cost ratio by hazard based on Applicant's Benefit Cost Analysis;

(2) The priority given to the sub-application by the Applicant;

(3) Community mitigation factors such as Community Rating System class, Cooperating Technical Partner, participation as a Firewise Community, and adoption of codes to include Building Code Effectiveness Grading Schedule, International Code Series and National Fire Protection Association 5000 Code;

(4) Status of FEMA-approved local, Standard State/Tribal and Enhanced State/Tribal mitigation plans;

(5) Percent of the population benefiting (equals the community population divided by the individuals directly benefiting);

(6) Status of the Sub-applicant as a small, impoverished community; and

(7) Whether the project protects critical facilities.

PDM is a competitive grant program in which Applicants compete for limited funds and, as such, the program must emphasize funding eligible cost-effective mitigation activities. Therefore, mitigation projects with higher benefit cost ratios will be more competitive. To enhance proposal competitiveness, Applicants are encouraged to conduct a thorough Benefit Cost Analysis in accordance with this Notice that demonstrates the maximum benefits associated with their mitigation project. Mitigation projects with a benefit cost ratio less than 1.0 will not be considered for the PDM competitive grant program.

Proposals will be ranked in descending order based on the National Ranking Scores, and the highest scored applications representing 150 percent of funds available nationally for the competitive PDM program will progress to the National Evaluation phase. FEMA will also include the two highest-scoring sub-applications submitted by each State and the two highest scoring sub-applications from Federally recognized Indian Tribal government Applicants in the National Evaluation, if not included in the 150 percent, to ensure a geographic spread of the applications considered. FEMA also may include additional sub-applications that are primarily focused on the National priority to address NFIP repetitive flood loss properties among the sub-applications that progress to the National Evaluation.

National Evaluation. National panels, chaired by FEMA and composed of FEMA headquarters and regional staff, other Federal agency staff, and State representatives, will convene to evaluate the proposals on the basis of additional predetermined qualitative factors to calculate a National Evaluation Score. Mitigation planning activities will be scored separately from mitigation projects.

• Evaluation factors for competitive mitigation planning activities, listed in order of importance with the same importance given to numbers 7 and 8, are:

(1) Feasibility of project methodology and outcome;

(2) Implementation involves reasonable timeline and expectations;

(3) Sufficient staff and resources to implement;

(4) Consistency with the National priority to address FEMA-identified targeted NFIP repetitive flood loss properties;

(5) Community mitigation incentives to include tax credits, waiver of building permit fees, and building codes;

(6) Leverages State and local community involvement through partnerships;

(7) Identifies appropriate outreach activities that advance mitigation;

(8) Serves as a model for other communities;

(9) Innovation and creativity used as part of the best available options; and,

(10) National Ranking score.

• Evaluation factors for mitigation projects, listed in order of importance with the same importance given to numbers 9 and 10, are:

(1) Feasibility of project methodology and outcome;

(2) Implementation involves reasonable timeline and expectations;

(3) Sufficient staff and resources to implement;

(4) Consistency with the National priority to reduce NFIP repetitive flood loss properties; Federal laws and Executive Orders to include National Environmental Policy Act, National Historic Preservation Act, Clean Water Act, Floodplain Management, and Seismic Safety of Federal Buildings; and Federal programs such as American Heritage Rivers Initiative, SBA Mitigation Loan Program and EPA Watershed Initiative;

(5) Community mitigation incentives to include tax credits, waiver of building permit fees, and building codes;

(6) Whether the project protects critical facilities;

(7) Leverages State and local community involvement through partnerships;

(8) Serves as a model for other communities;

(9) Offers durable financial and social benefits;

(10) Identifies appropriate outreach activities that advance mitigation;

(11) Innovation and creativity used as part of the best available options; and,

(12) National Ranking Score.

Selection/Award. For FY 2003 PDM competitive funds, awards will be governed by Consolidated Appropriations Resolution, Pub. L. 108-7, section 203 of the Stafford Act, as amended by section 102 of the DMA, this notice, and program guidance, which will be made available to the public on the FEMA Internet site: http://www.fema.gov/fima/pdm.shtm.

The Headquarters Approving Federal Official shall consider the National Evaluation Score, any comments and recommendations from the independent reviewers, the National priority, and other pertinent information to determine which sub-applications to approve. After the sub-applications are selected, FEMA Regional offices will work with Applicants whose sub-applications are selected to implement the grant award.

Environmental/Historic Preservation Review Process

FEMA has determined, in accordance with 44 CFR 10.8(d)(2)(iii), that mitigation planning activities have no impact on the environment and will require no further environmental or historic preservation review. However, mitigation projects will require environmental/historic preservation review. Construction type activities usually require more extensive review, or even an environmental assessment with alternatives addressed and/or historic preservation consultation. For selected mitigation projects that require any level of environmental/historic preservation review, FEMA will not award the grant and the Applicant may not initiate construction until FEMA has completed its review. FEMA will complete the environmental and historic preservation review with the assistance of both the Applicant and the Sub-applicant.

If, after review of the responses to the established environmental/historic questions, supporting documentation, and the consultations with regulatory/resource agencies, FEMA determines that certain compliance measures are required to address the environmental/historic impacts of a selected project, FEMA will notify the Applicant. The Applicant or Sub-applicant may determine whether or not to accept the grant award based on the estimated additional cost of the compliance measures. The amount of the Federal share will not be increased to cover any additional costs. Therefore, it is essential that Applicants and Sub-applicants include costs associated with any anticipated environmental/historic preservation compliance measures or alternatives identified through the development of the environmental/historic preservation documentation in the project budget at the time of application submission.

Reconsideration

At its discretion, FEMA may review a decision where there is an indication of material technical or procedural error that influenced our decision. Requests for reconsideration based upon technical or procedural error should be directed to the Regional Director within 60 days of receiving notice of our decision. The Regional Director will analyze the reconsideration request and make a recommendation to the Director of the Mitigation Division at Headquarters or his designee.

Reporting Requirements

The following reports are required from Applicants that are awarded PDM competitive grants (Grantees):

• Federal Cash Transaction Reports. If the Grantee uses the U.S. Department of Health and Human Services (HHS) Payment Management System-SMARTLINK, the Grantee shall submit a copy of the PMS 272 Cash Transaction Report submitted to the HHS) to FEMA.

• Financial Status Reports. The Grantee shall submit Financial Status Reports, SF 269 or FF 20-10, to the FEMA regional office within 30 days from the end of the first federal quarter following the initial grant award. The Regional Director may waive this initial report. The Grantee shall submit quarterly financial status reports thereafter until the grant ends. Reports are due on January 30, April 30, July 30, and October 30.

• Performance Reports:

(1) The Grantee shall submit performance reports (no required format) to the FEMA Regional Office within 30 days after end of each quarter. Reports are due January 30, April 30, July 30 and October 30.

(2) Quarterly performance report shall consist of a comparison of actual accomplishment of the approved activity and report the name, completion status, expenditure, and payment-to-date of each approved activity/sub-grant award under the Grant Award.

• Final Reports. The Grantee shall submit a Final Financial Status Report and Performance Report within 90 days from Grant Award Performance Period expiration date, per 44 CFR 13.50.

• Enforcement. In reference to 44 CFR 13.43 Enforcement, the Regional Director may suspend drawdowns from the HHS/Payment Management System-SMARTLINK or take other remedial actions for non-compliance if quarterly reports are not submitted.

Dated: July 1, 2003.
Anthony S. Lowe,
Mitigation Division Director, Emergency Preparedness and Response Directorate.

[FR Doc. 03-17043 Filed 7-3-03; 8:45 am]

BILLING CODE 6718-36-P